SMALL BUSINESS ADMINISTRATION

Tregaron Opportunity Fund II, L.P. License No. 09/09-0474; Notice Seeking Exemption Under Section 312 of the Small Business Investment Act, Conflicts of Interest

Notice is hereby given that Tregaron Opportunity Fund II, L.P., 300 Hamilton Avenue, 4th Floor, Palo Alto, CA 94301, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). Tregaron Opportunity Fund I, L.P. and Tregaron Opportunity Fund II, L.P. propose to provide debt financing to Somerset Landscape, LLC, 19051 South Arizona Avenue, Chandler, AZ 85286. The proceeds will be used to finance the acquisition of Greener Pastures Landscape, Inc.

The financing is brought within the purview of § 107.730(a)(1) of the Regulations because Tregaron Opportunity Fund I, L.P. and Tregaron Opportunity Fund II, L.P. are Associates and because Tregaron Opportunity Fund I, L.P. has a greater than ten percent interest in Somerset Landscape, LLC. Therefore this transaction is considered financing an Associate requiring SBA prior written exemption.

Notice is hereby given that any interested person may submit written comments on the transaction, within fifteen days of the date of this publication, to the Associate Administrator for Office of Investment and Innovation, U.S. Small Business Administration, 409 Third Street SW., Washington, DC 20416.

Dated: September 20, 2014.
Javier E. Saade,
Associate Administrator for Office of Investment and Innovation.

[FR Doc. 2014-23953 Filed 10-8-14; 8:45 am]

BILLING CODE P